DEPARTMENT OF HOMELAND SECURITY

Federal Emergency Management Agency

[Docket ID FEMA-2014-0005]

Individual Assistance Declarations Factors Guidance

AGENCY: Federal Emergency Management Agency, DHS.

ACTION: Notice.

SUMMARY: The Federal Emergency Management Agency (FEMA) is accepting comments on the Individual Assistance Declarations Factors Guidance.

DATES: Comments must be received by October 24, 2016.

ADDRESSES: Comments must be identified by docket ID FEMA-2014-0005 and may be submitted by one of the following methods:

Federal eRulemaking Portal: http://www.regulations.gov. Follow the instructions for submitting comments. Please note that this proposed policy is not a rulemaking and the Federal Rulemaking Portal is being utilized only as a mechanism for receiving comments.

Mail: Regulatory Affairs Division, Office of Chief Counsel, Federal Emergency Management Agency, 8NE, 500 C Street SW., Washington, DC 20472-3100.

FOR FURTHER INFORMATION CONTACT: Mark Millican, Federal Emergency Management Agency, 500 C Street SW., Washington, DC 20472, (phone) 202-212-3221 or (email) FEMA-IA-Regulations@fema.dhs.gov.

SUPPLEMENTARY INFORMATION:

I. Public Participation

Instructions: All submissions received must include the agency name and docket ID. Regardless of the method used for submitting comments or material, all submissions will be posted, without change, to the Federal eRulemaking Portal at http://www.regulations.gov, and will include any personal information you provide. Therefore, submitting this information makes it public. You may wish to read the Privacy Act notice, which can be viewed by clicking on the “Privacy Notice” link in the footer of www.regulations.gov.

You may submit your comments and material by the methods specified in the ADDRESSES section. Please submit your comments and any supporting material by only one means to avoid the receipt and review of duplicate submissions.

Docket: The proposed guidance is available in docket ID FEMA-2014-0005. For access to the docket to read background documents or comments received, go to the Federal eRulemaking Portal at http://www.regulations.gov and search for the docket ID. Submitted comments may also be inspected at FEMA, Office of Chief Counsel, 8NE, 500 C Street SW., Washington, DC 20472.

II. Background

Section 1109 of the Sandy Recovery Improvement Act of 2013 ¹ requires FEMA, in cooperation with State, local, and Tribal emergency management agencies, to review, update, and revise through rulemaking the factors found at 44 CFR 206.48(b) that FEMA uses to determine whether to recommend provision of Indiviual Assistance during a major disaster. On November 12, 2015, FEMA published a notice of proposed rulemaking as part of its effort to meet the requirements in section 1109 of the Sandy Recovery Improvement Act of 2013. 80 FR 70116. FEMA is now seeking comment on its proposed Individual Assistance Declarations Factors Guidance, which is intended to provide additional information to the public regarding the manner in which FEMA is proposing to evaluate a request for a major disaster declaration authorizing Individual Assistance.

¹ Public Law 113-2, § 1109.

The proposed guidance does not have the force or effect of law.

FEMA seeks comment on the proposed guidance, which is available online at http://www.regulations.gov in docket ID FEMA-2014-0005, and whether there is any additional information that FEMA could include in the guidance to provide further clarity. Based on the comments received, FEMA may make appropriate revisions to the proposed guidance, and as appropriate, revisions to the final rule. When FEMA issues a final guidance, FEMA will publish a notice of availability for the final guidance in the Federal Register and make the final guidance available at http://www.regulations.gov.

Authority: Pub. L. 113-2.

Dated: September 14, 2016.
W. Craig Fugate,
Administrator, Federal Emergency Management Agency.

[FR Doc. 2016-22796 Filed 9-21-16; 8:45 am]

BILLING CODE 9111-23-P